DEPARTMENT OF ENERGY

Federal Energy Regulatory Commission

[Docket No. EL14-93-000]

State Corporation Commission of the State of Kansas v. Westar Energy, Inc.; Notice of Complaint

Take notice that on August 20, 2014, pursuant to sections 206 and 306 of the Federal Power Act, 16 U.S.C. 824e and 825e and Rule 206 of the Federal Energy Regulatory Commission's (Commission) Rules of Practice and Procedure, 18 CFR 385.206, the State Corporation Commission of the State of Kansas (Complainant), filed a formal complaint against Westar Energy, Inc. (Respondent), alleging that the Return on Equity component of the Respondent's Transmission Formula Rate is unjust, unreasonable, and unduly discriminatory.

Richard A. Drom, counsel for the Complainant certifies that copies of the complaint were served on the contact for the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 9, 2014.

Dated: August 21, 2014.
Kimberly D. Bose,
Secretary.

[FR Doc. 2014-20763 Filed 8-29-14; 8:45 am]

BILLING CODE 6717-01-P